NUCLEAR REGULATORY COMMISSION

[Docket No. 52-044; NRC-2010-0361]

Toshiba Corporation, Advanced Boiling-Water Reactor; Design Certification

AGENCY: Nuclear Regulatory Commission.

ACTION: Application for design certification renewal; withdrawal and closure of docket.

SUMMARY: The U.S. Nuclear Regulatory Commission (NRC) is closing the NRC's docket for the Advanced Boiling-Water Reactor (ABWR) design certification renewal application submitted by Toshiba Corporation. Toshiba Corporation has withdrawn its application to renew the ABWR design certification rule.

DATES: The effective date of the closure of the NRC's docket for Toshiba Corporation's renewal of the ABWR design certification rule is January 11, 2017.

ADDRESSES: Please refer to Docket ID NRC-2010-0361 when contacting the NRC about the availability of information regarding this document. You may obtain publicly-available information related to this document using any of the following methods:

• Federal Rulemaking Web site: Go to http://www.regulations.gov and search for Docket ID NRC-2010-0361. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room 01-F21, One White Flint North, 11555 Rockville Pike, Rockville, Maryland 20852.

FOR FURTHER INFORMATION CONTACT: Getachew Tesfaye, Office of New Reactors, U.S. Nuclear Regulatory Commission, Washington, DC 20555-0001; telephone: 301-415-8013; email: Getachew.Tesfaye@nrc.gov.

SUPPLEMENTARY INFORMATION: A notice of receipt and availability of the ABWR renewal application submitted by Toshiba Corporation was previously published in the Federal Register on November 24, 2010 (75 FR 71744). On December 23, 2010 (75 FR 80854), a subsequent notice was published in the Federal Register announcing the acceptance of the renewal application in accordance with the requirements contained in 10 CFR part 52, “Licenses, Certifications and Approvals for Nuclear Power Plants.” The NRC docket number established for this application is 52-044.

By letter dated April 29, 2015 (ADAMS Accession No. ML15110A121), the NRC issued a request for additional information (RAI). On May 25, 2015 (ADAMS Accession No. ML15154A547), Toshiba responded to the RAI requesting postponement of further review of the application until July 1, 2016. By the letter dated December 1, 2015 (ADAMS Accession No. ML15215A318), the NRC accepted Toshiba's request to postpone the NRC review. By letter dated June 9, 2016 (ADAMS Accession No. ML16173A310), Toshiba announced its withdrawal of the application to renew the ABWR design certification from the docket.

The NRC notes that this action does not affect the existing NRC docket (52-045) for the ABWR design certification rule renewal application filed by GE-Hitachi Nuclear Energy 76 FR 9612 (February 18, 2011).

Dated at Rockville, Maryland, this 30th day of December 2016.
For the Nuclear Regulatory Commission.
Francis M. Akstulewicz,
Director, Division of New Reactor Licensing, Office of New Reactors.

[FR Doc. 2017-00438 Filed 1-10-17; 8:45 am]

BILLING CODE 7590-01-P